DEPARTMENT OF THE TREASURY

Internal Revenue Service

26 CFR Part 1

[REG-160330-02]

RIN 1545-BB65

Section 704(c), Installment Obligations and Contributed Contracts; Correction

AGENCY: Internal Revenue Service (IRS), Treasury.

ACTION: Correction to notice of proposed rulemaking.

SUMMARY: This document contains corrections to a notice of proposed rulemaking (REG-106330-02) that was published in the Federal Register on Monday, November 24, 2003 (68 FR 65864). These proposed regulations relate to the tax treatment of installment obligations and property acquired pursuant to a contract under sections 704(c) and 737.

FOR FURTHER INFORMATION CONTACT: Christopher L. Trump, (202) 622-3070 (not a toll-free number).

SUPPLEMENTARY INFORMATION:

Background

This notice of proposed rulemaking that is the subject of this correction is under sections 704(c) and 737 of the Internal Revenue Code.

Need for Correction

As published REG-160330-02 contain errors which may prove to be misleading and are in need of clarification.

Correction of Publication

Accordingly, the publication of the notice of proposed rulemaking (REG-160330-02), which is the subject of FR Doc. 03-29323, is corrected as follows:

1. On page 65865, column 2, under the paragraph heading “Part 1—INCOME TAXES”, Par. 2 amendatory instruction 6a, line four, the language “paragraphs (a)(8)(ii), and (a)(8)(ii) and” is corrected to read “paragraphs (a)(8)(ii), and (a)(8)(iii) and”.

§ 1.704-4 [Corrected]

2. On page 65865, column 3, § 1.704-4, paragraph (g) Effective date, line four the language “except that paragraphs (d)(1)(i) and (ii)” is corrected to read “except that paragraphs (d)(1)(ii) and (iii)”.

§ 1.737-5 [Corrected]

3. On page 65866, column 1, § 1.737-5 under the section heading, § 1.737-5 Effective dates., line five, the language “2(d)(3)(ii) and (ii) apply to distributions” is corrected to read “2(d)(3)(ii) and (iii) apply to distributions”.

Cynthia Grigsby,
Acting Chief, Publications and Regulations Branch, Legal Processing Division, Associate Chief Counsel (Procedures and Administration).

[FR Doc. 04-2502 Filed 2-5-04; 8:45 am]

BILLING CODE 4830-01-P